DEPARTMENT OF HOMELAND SECURITY

Coast Guard

[USCG-2004-17029]

Chemical Transportation Advisory Committee

AGENCY: Coast Guard, DHS.

ACTION: Notice of meeting.

SUMMARY: The Chemical Transportation Advisory Committee (CTAC) and its Hazardous Cargo Transportation Security Subcommittee will meet to discuss various issues relating to the marine transportation of hazardous materials in bulk. These meetings will be open to the public.

DATES: CTAC will meet on Thursday, March 4, 2004, from 9 a.m. to 3:30 p.m. The Subcommittee on Hazardous Cargo Transportation Security will meet on Tuesday, March 2, 2004, from 9 a.m. to 4 p.m. and Wednesday, March 3, 2004, from 9 a.m. to 4 p.m. These meetings may close early if all business is finished. Written material and requests to make oral presentations should reach the Coast Guard on or before February 27, 2004. Requests to have a copy of your material distributed to each member of the Committee should reach the Coast Guard on or before February 27, 2004.

ADDRESSES: Both CTAC and the Subcommittee on Hazardous Cargo Transportation Security will meet at the Coast Guard Headquarters Building, 2100 2nd Street SW., Washington DC, 20593, in room 2415. Send written material and requests to make oral presentations to Commander Robert J. Hennessy, Executive Director of CTAC, Commandant (G-MSO-3), U.S. Coast Guard Headquarters, 2100 Second Street SW., Washington, DC 20593-0001 or email: CTAC@comdt.uscg.mil. This notice is available on the Internet at http://dms.dot.gov.

FOR FURTHER INFORMATION CONTACT: Commander Robert J. Hennessy, Executive Director of CTAC, or Ms. Sara Ju, Assistant to the Executive Director, telephone (202) 267-1217, fax (202) 267-4570.

SUPPLEMENTARY INFORMATION: Notice of these meetings is given under the Federal Advisory Committee Act, 5 U.S.C. App. 2.

Agenda of Subcommittee Meeting on March 2-3, 2004:

(1) Introduce Subcommittee members and attendees.

(2) Discuss status of CTAC recommendations to the Coast Guard regarding bulk solid ammonium nitrate and ammonium nitrate fertilizers that are classified as oxidizers.

(3) Discuss status of Maritime Transportation Security Act (MTSA) implementation.

(4) Discuss outreach initiatives.

Agenda of CTAC Meeting on Thursday, March 4, 2004:

(1) Introduce Committee members and attendees.

(2) Status report from the CTAC Hazardous Cargo Transportation Security Subcommittee.

(3) Final report from the Outreach Workgroup.

(4) Presentation of the initiative to incorporate marine specific competencies, for hazardous material incident responders, into the National Fire Protection Association (NFPA) 472 Standard.

(5) Discussion and vote to establish a new subcommittee on the NFPA 472 Initiative.

(6) Presentation by the Chemical Distribution Institute on their Responsible Care Program.

(7) Presentation by CTAC reviewing recent marine casualties.

(8) Presentation by the Coast Guard's Office of Port, Vessel, and Facility Security (G-MPS).

(9) Presentation by the Coast Guard's Office of Response on Hazardous Substance Response Plan Regulations.

(10) Update of Coast Guard Regulatory Projects.

Procedural

These meetings are open to the public. Please note that the meetings may close early if all business is finished. At the discretion of the Chair, members of the public may make oral presentations during the meetings. If you would like to make an oral presentation at a meeting, please notify the Executive Director and submit written material on or before February 27, 2004. If you would like a copy of your material distributed to each member of the Committee in advance of a meeting, please submit 25 copies to the Executive Director (see ADDRESSES) no later than February 27, 2004.

Information on Services for Individuals With Disabilities

For information on facilities or services for individuals with disabilities, or to request special assistance at the meeting, telephone the Executive Director as soon as possible.

Dated: February 3, 2004.
Joseph J. Angelo,
Director of Standards, Marine Safety, Security and Environmental Protection.

[FR Doc. 04-2736 Filed 2-9-04; 8:45 am]

BILLING CODE 4910-15-P